DEPARTMENT OF HOMELAND SECURITY

Federal Emergency Management Agency

44 CFR Part 67

[Docket ID FEMA-2018-0002; Internal Agency Docket No. FEMA-B-1085]

Proposed Flood Elevation Determinations for Assumption Parish, Louisiana and Incorporated Areas

AGENCY: Federal Emergency Management Agency, DHS.

ACTION: Proposed rule; withdrawal.

SUMMARY: The Federal Emergency Management Agency (FEMA) is withdrawing its proposed rule concerning proposed flood elevation determinations for Assumption Parish, Louisiana and Incorporated Areas.

DATES: The proposed rule is withdrawn as of June 14, 2018.

ADDRESSES: You may submit comments, identified by Docket No. FEMA-B-1085, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov;

SUPPLEMENTARY INFORMATION: On February 5, 2010, FEMA published a proposed rule at 75 FR 5915, proposing flood elevation determinations along one or more flooding sources in Assumption Parish, Louisiana and Incorporated Areas. FEMA is withdrawing the proposed rule.

Authority: 42 U.S.C. 4104; 44 CFR 67.4.

David I. Maurstad,
Deputy Associate Administrator for Insurance and Mitigation (Acting), Department of Homeland Security, Federal Emergency Management Agency.

[FR Doc. 2018-12641 Filed 6-13-18; 8:45 am]

BILLING CODE 9110-12-P